FEDERAL MARITIME COMMISSION

Sunshine Act Meeting

AGENCY HOLDING THE MEETING: Federal Maritime Commission.

TIME AND DATE: May 16, 2012—10:00 a.m.

PLACE: 800 North Capitol Street NW., First Floor Hearing Room, Washington, DC.

STATUS: The meeting will be held in Open Session.

MATTERS TO BE CONSIDERED:

1. Briefing on Committee on the Marine Transportation System (CMTS).

2. Briefing on XXI Latin American Congress of Ports.

3. Staff Briefing on Service Contracts that Reference Freight Indices.

4. Briefing and Discussion of Potential Notice of Inquiry Regarding Container Freight Indices for U.S. Agricultural Export Commodities.

5. Docket No. 11-22: Staff Recommendation and Draft Direct Final Rule on Revisions to Part 532, Non-Vessel-Operating Common Carrier Negotiated Rate Arrangements.

CONTACT PERSON FOR MORE INFORMATION: Karen V. Gregory, Secretary, (202) 523-5725.

Karen V. Gregory,
Secretary.

[FR Doc. 2012-11674 Filed 5-9-12; 4:15 pm]

BILLING CODE 6730-01-P